FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent To Terminate Receiverships
Fund | Receivership name | City | State | Date of appointment of receiver
10098 | First State Bank | Sarasota | FL | 08/07/2009
10099 | Community National Bank Of Sarasota County | Venice | FL | 08/07/2009
10107 | Ebank | Atlanta | GA | 08/21/2009
10136 | Bank USA, N.A. | Phoenix | AZ | 10/30/2009
10137 | Community Bank Of Lemont | Lemont | IL | 10/30/2009
10138 | North Houston Bank | Houston | TX | 10/30/2009
10141 | Citizens National Bank | Teague | TX | 10/30/2009
10145 | United Security Bank | Sparta | GA | 11/06/2009
10152 | The Buckhead Community Bank | Atlanta | GA | 12/04/2009
10167 | First Federal Bank Of California | Los Angeles | CA | 12/18/2009
10502 | Valley Bank | Moline | IL | 06/20/2014
10512 | Capitol City Bank & Trust Company | Atlanta | GA | 02/13/2015
10514 | Edgebrook Bank | Chicago | IL | 05/08/2015

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Department 34.6, 1601 Bryan Street, Dallas, TX 75201.

No comments concerning the termination of the above-mentioned receiverships will be considered which are not sent within this time frame.

Authority: 12 U.S.C. 1819.

Federal Deposit Insurance Corporation.
Dated at Washington, DC, on September 24, 2019.
Robert E. Feldman,
Executive Secretary.

[FR Doc. 2019-20999 Filed 9-26-19; 8:45 am]

BILLING CODE 6714-01-P